DEPARTMENT OF COMMERCE

National Telecommunications and Information Administration

[Docket No.: 230224-0051]

RIN 0660-XC055

Digital Equity Act of 2021; Request for Comments

AGENCY: National Telecommunications and Information Administration, U.S. Department of Commerce.

ACTION: Notice; request for comment.

SUMMARY: The Infrastructure Investment and Jobs Act of 2021, also known (and referred to subsequently herein) as IIJA or the Bipartisan Infrastructure Law, includes a historic investment of $65 billion to help close the digital divide and ensure that everyone in America has access to affordable, reliable, high-speed internet service. The Department of Commerce's National Telecommunications and Information Administration (NTIA) is responsible for distributing more than $48 billion in Bipartisan Infrastructure Law funding through several different programs. NTIA is requesting comments on the $2.75 billion Digital Equity Act of 2021 Program, and on the design and implementation of two components of that grant program: the $1.44 billion State Digital Equity Capacity Grant Program and the $1.25 billion Digital Equity Competitive Grant Program. NTIA seeks broad input and feedback from all interested stakeholders across the nation, including Tribal entities, and has established multiple avenues for the public to offer input to bolster NTIA's work and to improve the number and quality of ideas under consideration as the agency develops Notices of Funding Opportunity for each of the Digital Equity Capacity Grant and Digital Equity Competitive Grant Programs to be implemented by NTIA pursuant to the Bipartisan Infrastructure Law. This includes a series of public virtual listening sessions which will be announced at a later date.

DATES: Submit written comments on or before 5 p.m. Eastern Standard Time on May 1, 2023.

ADDRESSES: You may submit public comments on this action, identified by Regulations.gov docket number NTIA-2023-0002, by any of the following means:

1. Using the federal e-Rulemaking Portal at http://www.regulations.gov (our preferred method). The docket established for this opportunity to comment can be found at www.Regulations.gov, NTIA-2023-0002. Click the “Comment Now!” icon, complete the required fields, and enter or attach your comments.

2. Sending email to digitalequity@ntia.gov. Include the docket number NTIA-2023-0002 in the subject line of the message.

3. Mailing a printed submission to National Telecommunications and Information Administration, U.S. Department of Commerce, 1401 Constitution Avenue NW, Room 4878, Washington, DC 20230, Attention: Digital Equity RFC.

Please submit your comments in only one of these ways to minimize the receipt of duplicate submissions.

FOR FURTHER INFORMATION CONTACT: Please direct questions regarding this Notice to digitalequity@ntia.gov, indicating “Notice and Request for Comment” in the subject line, or if by mail, addressed to Angela Thi Bennett, National Telecommunications and Information Administration, U.S. Department of Commerce, 1401 Constitution Avenue NW, Washington, DC 20230; or by telephone: (202) 482-2048. Please direct media inquiries to NTIA's Office of Public Affairs, press@ntia.gov or (202) 482-7002.

SUPPLEMENTARY INFORMATION:

I. Background

Recognizing the internet's fundamental role in today's society and its centrality to our nation's continued health and prosperity, the Biden-Harris Administration will work to ensure that every community in America has access to affordable, reliable, high-speed internet service. On November 15, 2021, President Biden signed the Infrastructure Investment and Jobs Act of 2021 into law, also known (and referred to subsequently herein) as the Bipartisan Infrastructure Law, which includes a historic investment of $65 billion to help close the digital divide and ensure that everyone in America has access to affordable, reliable, high-speed internet service. The National Telecommunications and Information Administration (NTIA), is responsible for distributing more than $48 billion in Bipartisan Infrastructure Law funding through several different programs, including the $2.75 billion Digital Equity Act of 2021 Program.

The COVID-19 pandemic highlighted what many have known for a very long time: High-speed internet access is not a luxury, but a basic necessity for all Americans. Since the pandemic, telehealth access and use has expanded and the workplace is changing as more workers are choosing to work from home. The Biden-Harris Administration supports bringing affordable, high-speed, reliable internet service and the resources necessary to realize its full potential to every household in America. Passed on a bipartisan basis in both chambers of Congress, the Infrastructure Investment and Jobs Act of 2021 (IIJA), Public Law 117-58, 135 Stat. 429 (November 15, 2021), also known as the Bipartisan Infrastructure Law, allocated $42.45 billion to create the Broadband, Equity, Access and Deployment Program (BEAD), $1 billion to create the Enabling Middle Mile Broadband Infrastructure Program, $2 billion to help tribal communities expand high-speed internet access and adoption on tribal lands, and $2.75 billion (through the Digital Equity Act of 2021 (Digital Equity Act), also passed as part of the IIJA) to advance federal goals relating to digital equity ¹ and digital inclusion .² These programs administered by NTIA are designed to work in tandem with other high-speed internet programs, including the Affordable Connectivity Program which provides up to $30 per month toward internet service for qualifying households and up to $75 per month for households on qualifying Tribal lands. With the passage of the Bipartisan Infrastructure Law, Congress took a significant step forward in achieving the Biden-Harris Administration's goal of ensuring that all Americans not only have access to affordable, reliable, high-speed internet but also the skills and resources needed for full participation in the society and economy of the United States.

¹ Section 60302(10) of the IIJA defines “digital equity” as “the condition in which individuals and communities have the information technology capacity that is needed for full participation in the society and economy of the United States.”

² Section 60302(11) of the IIJA Law defines “digital inclusion” as “(A) . . . the activities that are necessary to ensure that all individuals in the United States have access to, and the use of, affordable information and communication technologies, such a—(i) reliable fixed and wireless broadband internet service; (ii) internet-enabled devices that meet the needs of the user; and (iii) applications and online content designed to enable and encourage self-sufficiency, participation, and collaboration; and (B) includes—(i) obtaining access to digital literacy training; (ii) the provision of quality technical support; and (iii) obtaining basic awareness of measures to ensure online privacy and cybersecurity.”

This Notice is part of NTIA's strategy to engage with partners, stakeholders, and most importantly, individuals with lived experiences who faced challenges of having access to and/or the skills and devices to fully utilize affordable, reliable, high-speed internet, to help meet the President's goal to close the digital divide and transform the lives of all Americans. This is America's opportunity to harness the talents and strengths of all parts of our country and remove systemic barriers and provide equal access to opportunities and benefits, so that everyone has a chance to reach their full potential. But in order to achieve this objective, we need to hear from you. This Notice is your opportunity to inform how NTIA designs a program that works to achieve this national and community driven opportunity for change.

II. Objectives of This Notice

This Notice offers an opportunity for all interested parties to provide vital input and recommendations for consideration in the development of Digital Equity Act programs established by the Bipartisan Infrastructure Law for implementation by NTIA.

This Notice seeks comment on two Bipartisan Infrastructure Law grant programs to be administered by NTIA: the $1.44 billion State Digital Equity Capacity Grant Program and the $1.25 billion Digital Equity Competitive Grant Program. Along with the State Digital Equity Planning Grant Program,³ these three Digital Equity Act programs promote digital inclusion and equity to ensure that all individuals and communities have the skills, technology, and capacity needed to reap the full benefits of our digital economy.

³ On May 13, 2022, NTIA released a Notice of Funding Opportunity for the State Digital Equity Planning Grant Program. States, territories or possessions, Indian Tribes, Alaska Native entities, and Native Hawaiian organizations interested in participating were required to apply or submit their letter of intent by July 12, 2022. NTIA began releasing awards to States in August 2022.

III. Request for Comments

NTIA welcomes input on any of the matters set forth in this Request for Comment that commenters believe are important to NTIA's implementation efforts. Commenters are invited to provide input on the full range of issues presented by this Notice and are encouraged to address any or all of the following questions or to provide additional information relevant to the implementation of the Bipartisan Infrastructure Law's broadband programs. When responding to one or more of the questions below, please note in the text of your response the number of the question to which you are responding. Where applicable, NTIA encourages commenters to provide specific, actionable proposals and relevant fact-based information, along with the rationale for their comments, including available examples of studies, measures, outcomes, assessments, etc., and supporting information.

Responders should include a page number on each page of their submissions. Please do not include in your comments information of a confidential nature, such as sensitive personal information or proprietary information. All comments received are a part of the public record and will generally be posted to Regulations.gov without change. All personal identifying information (e.g., name, address) voluntarily submitted by the commenter may be publicly accessible. Information obtained as a result of this notice may be used by the federal government for program planning on a non-attribution basis.

NTIA Seeks Public Comment on the Following Areas (Inclusive of 24 Questions):

Implementation of the Digital Equity Act of 2021

The Digital Equity Act dedicated $2.75 billion to establish three grant programs: the $60 million State Digital Equity Planning Grant Program (Planning Grant Program), the $1.44 billion State Digital Equity Capacity Grant Program (Capacity Grant Program), and the $1.25 billion Competitive Digital Equity Program (Competitive Grant Program). The combined goal of these programs is to promote the adoption and meaningful use of the internet across the Covered Populations ⁴ which include (1) individuals who live in low-income households,⁵ (2) aging individuals,⁶ (3) incarcerated individuals, other than individuals who are incarcerated in a Federal correctional facility, (4) veterans,⁷ (5) individuals with disabilities,⁸ (6) individuals with a language barrier, including individuals who are English learners and have low levels of literacy, (7) racial and ethnic minorities, and (8) rural inhabitants.⁹

⁴ Section 60302(1)(8) of the IIJA.

⁵ Section 60302(7) of the IIJA.

⁶ Section 60302(3) of the IIJA.

⁷ Section 60302(22) of the IIJA.

⁸ Section 60302(13) of the IIJA.

⁹ Section 60302(20) of the IIJA.

The Bipartisan Infrastructure Law is not only a significant step toward achieving the goal that every household in America has access to affordable, reliable, high-speed internet; it also will meaningfully address the fundamental economic, educational, social, and health-related inequities in our country by giving everyone the skills and tools they need to connect, particularly the members of our communities who have previously been excluded until now. To achieve digital equity for all Americans, the Biden-Harris Administration fosters the full participation of those individuals who are members of the Covered Populations.

State Digital Equity Planning Grant Program

Under the Planning Grant Program, NTIA made up to $60,000,000 available to award grants to the 50 states, the District of Columbia, and Puerto Rico (collectively the “States”) and Territories for the purpose of developing State Digital Equity Plans within one year from the date of funding. Through these Plans, each State and Territory will, among other things, identify barriers to digital equity in each State and strategies for overcoming those barriers. States that develop State Digital Equity Plans will then be able to apply for funds from the State Digital Equity Capacity Grant Program to implement those plans.

A. Assessing State Digital Equity Plans Under the Digital Equity Planning Grant Program

State Digital Equity Plans must include the following content: (1) identification of the barriers to digital equity faced by Covered Populations in the State; (2) measurable objectives for documenting and promoting, among each Covered Population, the achievement of digital equity in the minimum of five key areas; ¹⁰ (3) an assessment of how the measurable objectives for the Covered Populations will affect and interact with the States' public health, workforce, economic, and education outcomes ¹¹ and delivery of other essential services; (4) a description of how the State plans to collaborate with key stakeholders ¹² in the State; and (5) a list of organizations with which the administering entity for the State collaborated in developing and implementing the State Digital Equity Plan.¹³ Organizations may include libraries, community anchor institutions, and grass roots community-based organizations.

¹⁰ Section 60304(c)(1)(B) of the IIJA sets forth the following key areas: (i) the availability of, and affordability of access to, fixed and wireless broadband technology; (ii) the online accessibility and inclusivity of public resources and services; (iii) digital literacy; (iv) awareness of, and the use of, measures to secure the online privacy of, and cybersecurity with respect to, an individual; and (v) the availability and affordability of consumer devices and technical support for those devices.

¹¹ Section 60304(c)(1)(C) of the IIJA sets forth the following impact and interaction areas: (i) economic and workforce development goals, plans and outcomes, (ii) educational outcomes, (iii) health outcomes, and (iv) civic and social engagement, and (v) delivery of other essential services.

¹² Section 60304(c)(1)(D) sets forth the following key stakeholders: (i) community anchor institutions, (ii) county and municipal governments; (iii) local educational agencies; (iv) where applicable, Indian Tribes, Alaska Native entities, or Native Hawaiian organizations; (v) nonprofit organizations; (vi) organizations that represent Covered Populations; (vii) civil rights organizations; (viii) entities that carry out workforce development programs; (ix) agencies of the State that are responsible for administering or supervising adult education and literacy activities in the State; (x) public housing authorities in the State; and (xi) a partnership between any of the entities described in clauses (i) through (x).

¹³ Section 60304(c)(1)(E) of the IIJA.

To be awarded under the Capacity Grant Program, the States, including the District of Columbia and Puerto Rico, must submit an application that includes the State Digital Equity Plan funded through the State Digital Equity Planning Grant Program. Before submitting an application for the Capacity Grant Program, each State must make the State Digital Equity Plan of the State available for public comment for at least 30 days, consider all comments received during the comment period, and make any changes to the State Digital Equity Plan that it determines to be worthwhile. When submitting the application, the State must include a description of how the State responded to the public comments it received on the draft of the plan.¹⁴

¹⁴ Section 60304(c)(2) of the IIJA.

Question 1: During the public comment period for the States' Digital Equity Plans, what guidance should NTIA and/or each State provide to enable communities to review and provide actionable feedback to States regarding their State Digital Equity Plans? What criteria/factors/outcomes should communities focus on in their review? How can NTIA ensure that States/Territories consult with Tribal entities about how best to meet Tribal members' needs?

NTIA would like to learn from stakeholder experiences to inform the development of technical assistance resources to support applicants' efforts to identify successful project models, partnerships, activities, and strategies that deliver impactful and sustainable outcomes. In implementing the Bipartisan Infrastructure Law's programs, NTIA will offer technical assistance to all applicants and prospective sub-grantees. As a statutory requirement, these entities must evaluate the impact of funding projects on Covered Populations from the implementation of the Digital Equity Plans.

Question 2: Over the next year, NTIA will deliver technical assistance for States and Territories to develop holistic, actionable, and impactful State Digital Equity Plans. NTIA has created a Needs Assessment Guide, Asset Mapping Guide, Digital Equity Plan Guidance, Best Practices, Workforce Planning Guide, webinars, and other technical assistance resources.¹⁵ What additional guidance/resources should NTIA provide to States, Territories, and Tribal entities as they develop their Digital Equity Plans? What additional guidance can NTIA provide to help States and community organizations utilize other federal tools to close the digital divide by increasing access and reducing cost like the Affordable Connectivity Program? Individuals and communities who are most impacted by the digital divide are in the best position to help States, Territories, and Tribal entities understand the inequities and how best to focus and scale local efforts. How can individuals and communities provide feedback to States, Territories, and Tribal entities to ensure their unique communities' needs are solicited, considered, and reflected in the Digital Equity Plans?

¹⁵ NTIA, Digital Equity Programs, BroadbandUSA, https://broadbandusa.ntia.doc.gov/resources/grant-programs/digital-equity-programs.

B. State Digital Equity Capacity Grant Program

The State Digital Equity Capacity Grant Program is a $1.44 billion formula grant program ¹⁶ for States, Territories, Indian Tribes, Alaska Native entities, and Native Hawaiian organizations. It will fund an annual grant program, appropriating funds over government fiscal years 2022-2026, in support of the implementation of the Digital Equity Plans. The purpose of the Capacity Grant Program is to support the implementation of Digital Equity Plans of those States, Territories, and Tribal entities, including the digital inclusion activities to achieve digital equity in those States, Territories, and Tribal communities. Capacity Grant Program funds can be leveraged by combining those funds with other funding, such as federal, state, local, and/or philanthropic, to support the implementation of the Digital Equity Plans. NTIA must submit to the appropriate committees of Congress, the findings of evaluations of whether eligible States are meeting, or have met, the stated goals of the Digital Equity Plans developed by the States.¹⁷

¹⁶ Section 60304(d)(3)(A) of the IIJA.

¹⁷ Section 60306(a) of the IIJA.

Question 3: How should NTIA define success for the Capacity Grant Program? What outcomes are most important to measure? How should NTIA measure the success of the Capacity Grant Program, including measures and methods?

Question 4: How should NTIA design the Capacity Grant Program to ensure equity is achieved? Please explain. NTIA encourages stakeholders to provide the rationale for their comments, including available examples of studies, measures, outcomes, assessments and supporting information.

Question 5: What criteria/factors should NTIA take into consideration when assessing whether States, Territories, and Tribal entities are meeting the stated goals of their Digital Equity Plans? How should NTIA measure each Digital Equity Plan's progress in the short-term (one year or less) and long-term (two or more years)?

Question 6: What reporting requirements should NTIA establish for grantees to ensure that the voices of those most impacted by the digital divide are reflected in the implementation and updates of the Digital Equity Plans? What steps, if any, should NTIA take to monitor and evaluate implementation practices? From a sustainability perspective, what role can collaborations, partnerships, and coalitions play? Please share examples of any existing impactful collaborations, partnerships, and/or coalitions.

The Assistant Secretary is allowed to prescribe such rules as may be necessary to carry out the Capacity Grant Program.¹⁸

¹⁸ Section 60304(j) of the IIJA.

Question 7: What rules, if any, should the Assistant Secretary develop to ensure that digital equity is achieved in the Capacity Grant Program?

C. Digital Equity Competitive Grant Program

The Digital Equity Competitive Grant Program is a $1.25 billion program to award grants to support efforts to achieve digital equity, promote digital inclusion activities, and spur greater adoption of internet among Covered Populations. Eligible applicants include (1) a political subdivision, agency or instrumentality of a State, including an agency of a State that is responsible for administering or supervising adult education and literacy activities, or for providing public housing, in the State; (2) an Indian Tribe, an Alaska Native entity, or a Native Hawaiian organization; (3) a foundation, corporation, institution, or association that is a nonprofit entity and not a school; (4) a community anchor institution, which includes a library or a State library agency; (5) a local educational agency; (6) an entity that carries out a workforce development program; (7) a partnership between any of the entities described in the foregoing (1)-(6); and (8) a partnership between an entity described in the foregoing (1)-(6) and an entity that the Assistant Secretary, by rule, determines to be in the public interest and is not a school.¹⁹ The term ”community anchor institution” means a public school, a public or multi-family housing authority, a library, a medical or healthcare provider, a community college or other institution of higher education, a State library agency, and any other nonprofit or governmental community support organization.²⁰ Entities that serve or have served as the administering entity for a State or Territory under the State Digital Equity Planning Grant and State Digital Equity Capacity Grant Programs are ineligible applicants for the Competitive Grant Program.

¹⁹ Section 60305(b) of the IIJA.

²⁰ Section 60302(6) of the IIJA.

The purpose of the Competitive Grant Program is to: (1) develop and implement digital inclusion activities that benefit the Covered Populations; (2) facilitate the adoption of internet by Covered Populations in order to provide educational and employment opportunities to those Covered Populations; (3) implement training programs for Covered Populations that cover basic, advance, and applied skills or other workforce development programs; (4) make available equipment, instrumentation, networking capability, hardware and software, or digital network technology for broadband services to Covered Populations at low or no cost; (5) construct, upgrade, expend, or operate new or existing public access computing centers for Covered Populations through community anchor institutions; and (6) undertake any other project and activity that the Assistant Secretary finds to be consistent with the purposes for which the Digital Equity Competitive Program is established.²¹

²¹ Section 60305(d)(2)(A) of the IIJA.

Question 8: How should NTIA define success for the Competitive Grant Program? What outcomes are most important to measure? How should NTIA measure the success of the Competitive Grant Program, including specific measures? Are the measures of success the same or different from the Capacity Grant Program? If so, please elaborate.

Question 9: What kind of activities or projects should the Assistant Secretary consider for inclusion in eligible projects and activities for the Competitive Grant Program?

1. Competitive Program Rules

As discussed in section D of this Notice, the statutory language for the Competitive Program lists several eligible entities. The Assistant Secretary may also consider a partnership between an entity in one of those groups and an entity that “the Assistant Secretary, by rule, determines to be in the public interest” and that “is not a school.” ²²

²² Section 60305(b) of the IIJA.

Question 10: What group or groups that are not already listed should the Assistant Secretary consider to be eligible to apply for the Competitive Grant Program?

The Assistant Secretary is allowed to prescribe such rules as may be necessary to carry out obligations relating to the Competitive Grant Program.²³

²³ Section 60305(k) of the IIJA.

Question 11: What rules, if any, should the Assistant Secretary develop to ensure that digital equity is achieved in the Competitive Grant Program?

2. Competitive Grant Program Scoring

NTIA has an interest in ensuring that the Bipartisan Infrastructure Law is implemented in a way that promotes the efficient and effective use of federal funds. NTIA endeavors to design the Competitive Grant Program in a way in which those projects with the highest merit and relevant impact receive funding.

In any competitive grant program, NTIA will establish a robust and in-depth application review process, which will include a merit review based on evaluation criteria (to be established in the NOFO) by subject matter experts. Further, when deciding whether to make a particular grant under the Competitive Grant Program, the Assistant Secretary “shall, to the extent possible, consider whether an application shall, if approved—increase internet access and the adoption of the internet among Covered Populations to be served by the applicant and not result in unjust enrichment, the comparative geographic diversity of the application in relation to other eligible applications, and the extent to which an application may duplicate or conflict with another program.” ²⁴ Examples of unjust enrichment may include profiting from a Federal grant or artificially increasing the costs associated with a Federal grant.

²⁴ Section 60305(d) of the IIJA.

Question 12: How should NTIA design a scoring rubric system to ensure that digital equity will be achieved in the Competitive Grant Program? What factors, elements, and/or criteria should NTIA consider to ensure that funding is equitably distributed to serve the Covered Populations, e.g., by geography, covered population, project type, etc.?

Question 13: Should NTIA use weighted scoring? ²⁵ If so, are there specific evaluation criteria to which NTIA should provide more weight or value in the evaluation criteria for the Competitive Grant Program (i.e., place more weight on collaborations that support building the capacity of local, community-based organizations that are delivering meaningful and impactful services to the Covered Populations, provide more than 10% of matching funds or resources, or intend to provide project benefits to multiple communities or Covered Populations)? NTIA encourages stakeholders to provide the rationale for their comments, including available examples of studies, measures, outcomes, assessments and supporting information.

²⁵ A weighted scoring model is used to rank and prioritize criteria for evaluation by assigning a numeric value to each criterion.

Question 14: What additional weight, if any, should NTIA give to proposed projects that align with the State, Territory, and/or Tribal entity Digital Equity Plans?

D. Measuring for Success & Transformative Impact

The Bipartisan Infrastructure Law includes historic investments in digital inclusion and digital equity. Applicants and grantees will need to make important investment decisions with the aim that short-term measures are planned with the intention to generate long-term, sustainable, positive, and measurable social and economic impact. NTIA is interested in identifying successful project models, partnerships, activities, and strategies for digital equity projects that deliver impact and sustainable outcomes.

Question 15: What are examples of past or current evidence-based or evidence-informed digital equity and/or inclusion projects or other relevant or similar projects that NTIA can showcase as a part of its technical assistance efforts to support applicants in identifying promising or evidence-based project models, partnerships, activities, and strategies to consider, replicate, and leverage lessons learned as applicable?

1. Program Measurement, Evaluation, and Reporting

Measurement and reporting outcomes to the public is critical to the proper evaluation of Digital Equity Act programs. NTIA is required to evaluate the efficacy of the efforts funded by grants under the Capacity Grant Program.²⁶ The Commerce Program Evaluation Policy oversees how all evaluation conducted by (or funded by) the Department of Commerce and its bureaus (including NTIA) should be executed. Competitive Grant Program recipients are required to comply with reporting and evaluation requirements and the Assistant Secretary must establish various procedures and mechanisms to effectuate the Capacity and Competitive Program's goals.²⁷

²⁶ Section 60304(d)(3)(D)(iv) of the IIJA.

²⁷ Section 60305(h) of the IIJA.

Question 16: How should grantees define digital equity with respect to each of the Covered Populations? What does success look like for each of the Covered Populations? How should NTIA measure the effects of access to and adoption of, and meaningful use of the internet for each Covered Population? What examples of equity gap analysis and tools should the Assistant Secretary consider when measuring outcomes as they relate to each Covered Populations? To what extent should grantees disaggregate data within each of the Covered Populations to reveal the underlying trends and patterns? NTIA encourages stakeholders to provide the rationale for their comments, including available examples of studies, measures, outcomes, assessments and supporting information.

Question 17: What metrics and performance data infrastructure and data governance strategies and tools are needed to create a vibrant digital equity ecosystem (e.g., metrics, digital skills, sustainability) to measure program effectiveness and effects for Covered Populations? What publicly available datasets and tools should NTIA and grantees (e.g., States, Territories, non-profits, develop) enhance or support to benchmark and to track progress of grantee goals and objectives?

Question 18: NTIA will require regular grantee performance and progress reporting, e.g., semi-annually, project close out to monitor grantee implementation of funded projects and capture metrics, outcomes, and impact. How should NTIA measure grantees implementation of such metric tracking? To what extent should NTIA require standardized inputs, metrics, and measures in order to facilitate nationwide insights?

2. Digital Equity Strategies, Tactics, and Success Measures for Covered Populations

NTIA seeks to learn and understand what digital equity project strategies, tactics, and success measures would be appropriate for the Covered Populations listed in the Bipartisan Infrastructure Law. NTIA understands that there is not a one-size-fits-all approach to the spectrum of Covered Populations across the country, as communities and Covered Populations' needs vary greatly. However, NTIA is interested in learning and understanding the following for each Covered Population:

Question 19: For each of the Covered Populations, what are proven strategies and tactics, projects or programs, with outcome-based measures and impacts, that promote and achieve digital equity?

Question 20: Youth and young adults are members of each of the Covered Populations except for Older Americans. The COVID-19 pandemic had a devastating impact on academic achievement, physical and mental health, and earning opportunities for our youth and young adults. How can NTIA encourage and measure the effects of investments in our youth and young adult?

Question 21: To ensure all learners (youth, adult, incarcerated, etc.) have access to the opportunities that technology unlocks, how should NTIA promote a baseline or fundamental standard for digital literacy for all learners? What kind of baselines should NTIA's grant programs strive to achieve and should the intended outcomes be based on a type of standard which includes varying levels of digital skills, such as pre-basic, basic, intermediate and advanced? If so, please elaborate.

E. Ensuring That Equity Is Achieved in BEAD

Full participation in our twenty-first-century economy requires that everyone in America has access to affordable, reliable, high-speed internet service. Yet far too many live in a location where no service is available, the speed or quality of the service available is unreliable, or the options available are unaffordable. Under the BEAD Program, States and Territories will engage with all relevant stakeholders, including localities and those historically excluded communities, to design and implement projects that most benefit those groups from Underrepresented Communities. Successful execution of the BEAD Program will lay critical groundwork for universal access, affordability, equity, and adoption of the internet. It will also create good-paying jobs (including for local workers), close longstanding equity gaps, and improve the overall quality of life across America.

In general, the “Covered Populations” under Digital Equity Grant Programs are comparable to the “Underrepresented Communities” under BEAD. Under BEAD, “Underrepresented Communities” refers to groups that have been systematically denied a full opportunity to participate in aspects of economic, social, and civic life, including but not limited to: low-income households, aging individuals, incarcerated individuals, veterans, persons of color, Indigenous and Native American persons, members of ethnic and religious minorities, women, LGBTQI+ persons, persons with disabilities, persons with limited English proficiency, persons who live in rural areas, and persons otherwise adversely affected by persistent poverty or inequality.²⁸

²⁸ Section (I)(C)(aa) of the BEAD Notice of Funding Opportunity.

Question 22: How can NTIA best ensure that States and Territories that receive funding under BEAD and Digital Equity Programs are closely aligning their planning efforts to close the equity gaps for all Covered Populations? How can NTIA work with the States, Territories, and their communities to promote the collective impact and outcomes between BEAD's Five-Year Action Plan and States' Digital Equity Plans to achieve equity for its Underrepresented Communities/Covered Populations?

F. Ensure Workforce and Subcontracting Opportunities Are Inclusive of Underrepresented Communities/Covered Populations

The goal of BEAD is to connect everyone in the country to affordable, reliable, high-speed internet service. To meet the workforce needs of BEAD, States and their subgrantees are required to make appropriate investments in the development of a skilled, diverse workforce for the high-paying jobs that will need to be filled. One of the transformative objectives of the Bipartisan Infrastructure Law is to ensure members of Underrepresented Communities, especially those members of Underrepresented Communities who were most impacted by the pandemic, have access to the good jobs that will be created in connection with the historic internet investments. States and their subgrantees must describe how they plan to create equitable entry points to internet-related jobs; provide wrap-around services ²⁹ to support workers to access and complete training to attract, train, retain, or transition to meet local workforce needs; and increase high-paying job opportunities. States and their subgrantees should also understand the importance of their position, not just as a recipient of federal funding, but also via the role they play as the “entrusted liaison” on behalf of members of Underrepresented Communities/Covered Populations. Their efforts will ensure that individuals from Underrepresented Communities/Covered Populations can access unlimited possibilities and opportunities in the workforce.

²⁹ Wrap-around services or supportive services help individuals, and especially those from underrepresented and underserved groups, enroll in and successfully complete training. These services include, but are not limited to, child and dependent care, tools, work clothing, application fees and other costs of apprenticeship or required pre-employment training, transportation and travel (including lodging) to training and work sites, and services aimed at helping to retain underrepresented groups such as mentoring, tutoring, support groups, and peer networking.

Additionally, a non-federal entity must take all necessary affirmative steps to assure that minority businesses, women's business enterprises, and Labor Surplus Area firms are contracted with when possible.³⁰

³⁰ 2 CFR 200.321.

Question 23: How can NTIA encourage the design and implementation of Digital Equity Programs to support and advance the economic mobility of members of Underrepresented Communities/Covered Populations to support BEAD implementation and broader economic outcomes (e.g., through new skills, upskilling, re-skilling, career pathways, and other high-quality workforce development activities)?

Question 24: How can the BEAD and Digital Equity Programs support and promote youth employment and skills building? What kind of programs, projects, and partnerships—based on existing evidence—would encourage and prepare youth to have the digital skills needed to be workforce-ready, but also to enter internet and internet-related careers?

Dated: February 24, 2023.
Stephanie Weiner,
Acting Chief Counsel, National Telecommunications and Information Administration.

[FR Doc. 2023-04242 Filed 3-1-23; 8:45 am]

BILLING CODE 3510-60-P